DEPARTMENT OF JUSTICE

Antitrust Division

Notice Pursuant to the National Cooperative Research and Production Act of 1993—Naval Surface Technology Innovation Consortium

Notice is hereby given that, on January 5, 2023, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, 901D, East Farmingdale, NY; Abbott On Call, Inc., Vienna, VA; Ampersand Solutions Group, Inc., Huntsville, AL; Apptronik, Inc., Austin, TX; Baker Street Scientific, Rome, GA; Comark, LLC, Milford, MA; Cyan Systems, Santa Barbara, CA; Diversified Technologies, Inc., Bedford, MA; Dynaflow, Inc., Jessup, MD; Federal Equipment Company, Cincinnati, OH; FLIR Surveillance, Inc., N. Billerica, MA; Fox Valley Metal Tech, Inc., Green Bay, WI; Maplewell, Inc., Broomfield, CO; Mercer Engineering and Research Center (MERC), Warner Robins, GA; Munro & Associates, Inc., Auburn Hills, MI; Nanohmics, Inc., Austin, TX; Pacific Science & Engineering Group, Inc., San Diego, CA; PHELPS2020, Inc., Knoxville, TN; Precision, Inc., TT Electronics, Minneapolis, MN; Sauer Compressors USA, Stevensville, MD; SoftIn Way, Inc., Burlington, MA; TrustedQA, Inc., Reston, VA; VALT Enterprizes, Inc., Presque Isle, ME; VoiceIt Technologies, Inc., Minneapolis, MN; and Willerding Acquisition Corp DBA WB Industries, O'Fallon, MO, have been added as parties to this venture.

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on October 17, 2022. A notice was published in the Federal Register pursuant to Section 6(b) of the Act on November 23, 2022 (87 FR 71677).

Suzanne Morris,
Deputy Director of Civil Enforcement Operations, Antitrust Division.

[FR Doc. 2023-01389 Filed 1-24-23; 8:45 am]

BILLING CODE P